DEPARTMENT OF THE INTERIOR

Bureau of Land Management

[MTM 42157]

Public Land Order No. 7729; Partial Revocation of Power Site Reserve No. 676; Montana

AGENCY: Bureau of Land Management, Interior.

ACTION: Public Land Order.

SUMMARY: This order partially revokes a withdrawal created by an Executive Order insofar as it affects 80 acres, more or less, of National Forest System lands withdrawn for Power Site Reserve No. 676. This order also opens the lands to exchange.

DATES: Effective Date: March 11, 2009.

FOR FURTHER INFORMATION CONTACT: Sandra Ward, BLM Montana State Office, 5001 Southgate Drive, Billings, Montana 59101-4669, 406-896-5052.

SUPPLEMENTARY INFORMATION: The U.S. Forest Service has determined that the withdrawal is no longer needed on the lands described in this order and the partial revocation is needed to facilitate a pending land exchange with the State of Montana.

Order

By virtue of the authority vested in the Secretary of the Interior by Section 204 of the Federal Land Policy and Management Act of 1976, 43 U.S.C. 1714 (2000), it is ordered as follows:

1. The withdrawal created by the Executive Order dated February 11, 1918, which established Power Site Reserve No. 676, is hereby revoked insofar as it affects the following described lands:

Lolo National Forest

Principal Meridian, Montana

T. 23 N., R. 27 W.,

Sec. 32, SE¼NE¼ and SE¼SW¼.

The areas described aggregate 80 acres, more or less, in Sanders County.

2. At 9 a.m. on March 11, 2009, the above-described lands are hereby made available for exchange under the Act of March 20, 1922, as amended, 16 U.S.C. 485, 486 (2000).

Dated: January 9, 2009.
C. Stephen Allred,
Assistant Secretary—Land and Minerals Management.

[FR Doc. E9-2631 Filed 2-6-09; 8:45 am]

BILLING CODE 3419-11-P